DEPARTMENT OF COMMERCE

Foreign-Trade Zones Board

[S-151-2020]

Approval of Expansion of Subzone 65A; Eastern Shipbuilding Group, Inc.; Panama City and Port St. Joe, Florida

On August 27, 2020, the Executive Secretary of the Foreign-Trade Zones (FTZ) Board docketed an application submitted by the Panama City Port Authority, grantee of FTZ 65, requesting expanded subzone status subject to the existing activation limit of FTZ 65, on behalf of Eastern Shipbuilding Group, Inc., in Panama City and Port St. Joe, Florida.

The application was processed in accordance with the FTZ Act and Regulations, including notice in the Federal Register inviting public comment (85 FR 54345-54346, September 1, 2020). The FTZ staff examiner reviewed the application and determined that it meets the criteria for approval. Pursuant to the authority delegated to the FTZ Board Executive Secretary (15 CFR Sec. 400.36(f)), the application to expand Subzone 65A was approved on November 3, 2020, subject to the FTZ Act and the Board's regulations, including Section 400.13, and further subject to FTZ 65's 2,000-acre activation limit.

Dated: November 3, 2020.
Andrew McGilvray,
Executive Secretary.

[FR Doc. 2020-24801 Filed 11-6-20; 8:45 am]

BILLING CODE 3510-DS-P